COMMISSION ON CIVIL RIGHTS

Agenda and Notice of Public Meeting of the Florida Advisory Committee

Notice is hereby given, pursuant to the provisions of the rules and regulations of the U.S. Commission on Civil Rights (Commission) and the Federal Advisory Committee Act (FACA) that a meeting of the Florida Advisory Committee (Committee) will convene on Wednesday, September 18, 2013. The meeting will convene at 1:30 p.m. and adjourn at approximately 3:30 p.m. The meeting will be held at the InterContinental Hotel, 100 Chopin Plaza, Miami, Florida 33131. The purpose of the meeting is to discuss the Committee's previous work on voting rights and plan future activities on the issue.

Members of the public are entitled to submit written comments. Written comments may be mailed to the Southern Regional Office, U.S. Commission on Civil Rights, 61 Forsyth St. SW., Suite 16T126, Atlanta, GA, 30303. Comments may also be faxed to the Commission at (404) 562-7005, or emailed to the Commission at pminarik@usccr.gov. Comments must be received by October 18, 2013. Persons who desire additional information may contact the Southern Regional Office at (404) 562-7000.

Hearing-impaired persons who will attend the meeting and require the services of a sign language interpreter should contact the Southern Regional Office at least ten (10) working days before the scheduled date of the meeting.

Records generated from this meeting may be inspected and reproduced at the Southern Regional Office, as they become available, both before and after the meeting. Persons interested in the work of this Committee are directed to the Commission's Web site, http://www.usccr.gov, or may contact the Southern Regional Office at the above email or street address.

The meeting will be conducted pursuant to the rules and regulations of the Commission and FACA.

Dated August 26, 2013.
David Mussatt,
Acting Chief, Regional Programs Coordination Unit.

[FR Doc. 2013-21121 Filed 8-28-13; 8:45 am]

BILLING CODE 6335-01-P